DEPARTMENT OF THE INTERIOR

Bureau of Indian Affairs

[190A2100DD/AAKC001030/A0A501010.999900 253G; OMB Control Number 1076-0164]

Agency Information Collection Activities; Submission to the Office of Management and Budget for Review and Approval; Homeliving Programs and School Closure and Consolidation

AGENCY: Bureau of Indian Affairs, Interior.

ACTION: Notice of information collection; request for comment.

SUMMARY: In accordance with the Paperwork Reduction Act of 1995, we, the Bureau of Indian Education (BIE) are proposing to renew an information collection with revisions.

DATES: Interested persons are invited to submit comments on or before July 26, 2019.

ADDRESSES: Send written comments on this information collection request (ICR) to the Office of Management and Budget's Desk Officer for the Department of the Interior by email at OIRA_Submission@omb.eop.gov; or via facsimile to (202) 395-5806. Please provide a copy of your comments to Ms. Juanita Mendoza, U.S. Department of the Interior, Bureau of Indian Education, 1849 C Street NW, Washington, DC 20240; fax: (202) 208-3312; email: Juanita.Mendoza@bie.edu. Please reference OMB Control Number 1076-0164 in the subject line of your comments.

FOR FURTHER INFORMATION CONTACT: To request additional information about this ICR, contact Ms. Juanita Mendoza, (202) 208-6123. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on October 22, 2018 (83 FR 53290). No comments were received.

We are again soliciting comments on the proposed ICR that is described below. We are especially interested in public comment addressing the following issues: (1) Is the collection necessary to the proper functions of the BIE; (2) will this information be processed and used in a timely manner; (3) is the estimate of burden accurate; (4) how might the BIE enhance the quality, utility, and clarity of the information to be collected; and (5) how might the BIE minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The regulations at 25 CFR 36, Subpart G, Home-living Programs, implement section 1122 of the Native American Education Improvement Act of 2001 (Pub. L. 95-561, title XI, § 1120, as added Pub. L. 107-110, title X, § 1042, Jan. 8, 2002, 115 Stat. 2007). These regulations require the BIE to implement national standards for home-living situations in all BIE-funded residential schools. The BIE must collect information from all BIE-funded residential schools in order to assess each school's progress in meeting the national standards. Submission of this information allows the BIE to ensure that minimum academic standards for the education of Indian children and criteria for dormitory situations in Bureau-operated schools and Indian-controlled contract schools are met.

Title of Collection: Homeliving Programs and School Closure and Consolidation.

OMB Control Number: 1076-0164.

Form Number: None.

Type of Review: Revision of a currently approved collection.

Respondents/Affected Public: Indian Tribes.

Total Estimated Number of Annual Respondents: 164.

Total Estimated Number of Annual Responses: 164 per year, on average.

Estimated Completion Time per Response: Ranges from 15 minutes to 40 hours, depending on the activity.

Total Estimated Number of Annual Burden Hours: 932 hours.

Respondent's Obligation: Response is required to obtain a benefit.

Frequency of Collection: Annual or on occasion, depending on the activity.

Total Estimated Annual Nonhour Burden Cost: $0.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2019-13509 Filed 6-25-19; 8:45 am]

BILLING CODE 4337-15-P